DEPARTMENT OF COMMERCE

International Trade Administration

[A-533-897]

Utility Scale Wind Towers From India: Postponement of Final Determination of Sales at Less Than Fair Value Investigation

AGENCY: Enforcement and Compliance, International Trade Administration, Department of Commerce.

SUMMARY: The Department of Commerce (Commerce) is postponing the deadline for issuing the final determination in the less-than-fair-value (LTFV) investigation of utility scale wind towers (wind towers) from India until October 6, 2021, and is extending the provisional measures from a four-month period to a period of not more than six months.

DATES: Applicable July 20, 2021.

FOR FURTHER INFORMATION CONTACT: Terre Keaton or Amaris Wade, AD/CVD Operations, Office II, Enforcement and Compliance, International Trade Administration, U.S. Department of Commerce, 1401 Constitution Avenue NW, Washington, DC 20230; telephone: (202) 482-1280 or (202) 482-3874, respectively.

SUPPLEMENTARY INFORMATION:

Background

On November 9, 2020, Commerce initiated an LTFV investigation of imports of wind towers from India.¹ The period of investigation is July 1, 2019, through June 30, 2020. On May 24, 2021, Commerce published the Preliminary Determination.²

¹ See Utility Scale Wind Towers from India, Malaysia, and Spain: Initiation of Less-Than-Fair-Value Investigations, 85 FR 73023 (November 16, 2020).

² See Utility Scale Wind Towers from India: Preliminary Affirmative Determination of Sales at Less Than Fair Value, 86 FR 27829 (May 24, 2021) (Preliminary Determination).

Postponement of Final Determination

Section 735(a)(2) of the Tariff Act of 1930, as amended (the Act), and 19 CFR 351.210(b)(2) provide that a final determination may be postponed until not later than 135 days after the date of the publication of the preliminary determination if, in the event of an affirmative preliminary determination, a request for such postponement is made by the exporters or producers who account for a significant proportion of exports of the subject merchandise, or in the event of a negative preliminary determination, a request for such postponement is made by the petitioners. Further, 19 CFR 351.210(e)(2) requires that such postponement requests by exporters be accompanied by a request for extension of provisional measures from a four-month period to a period of not more than six months, in accordance with section 733(d) of the Act.

On July 7, 2021, Vestas Wind Technology India Private Limited (Vestas India), the mandatory respondent in this investigation, requested that Commerce postpone the deadline for the final determination until no later than 135 days from the publication of the Preliminary Determination, and extend the application of the provisional measures from a four-month period to a period of not more than six months.³ In accordance with section 735(a)(2)(A) of the Act and 19 CFR 351.210(b)(2)(ii), because: (1) The Preliminary Determination was affirmative; (2) the request was made by an exporter/producer who accounts for a significant proportion of exports of the subject merchandise; and (3) no compelling reasons for denial exist, Commerce is postponing the final determination until no later than 135 days after the date of the publication of the Preliminary Determination, and extending the provisional measures from a four-month period to a period of not more than six months. Accordingly, Commerce will issue its final determination no later than October 6, 2021.⁴

³ See Vestas India's Letter, “Request to Extend the Deadline for the Final Determination,” dated July 7, 2021.

⁴ Because Commerce previously aligned the deadline for the final determination of the companion countervailing duty (CVD) investigation of wind towers from India with this deadline for this investigation, the deadline for issuing the final determination in the CVD investigation is also October 6, 2021. See Utility Scale Wind Towers from India: Preliminary Affirmative Countervailing Duty Determination, and Alignment of Final Determination With Final Antidumping Duty Determination, 86 FR 15897 (March 25, 2021).

Notice to Interested Parties

This notice is issued and published pursuant to section 735(a)(2) of the Act and 19 CFR 351.210(g).

Dated: July 14, 2021.
Christian Marsh,
Acting Assistant Secretary for Enforcement and Compliance.

[FR Doc. 2021-15412 Filed 7-19-21; 8:45 am]

BILLING CODE 3510-DS-P